DEPARTMENT OF TRANSPORTATION

Federal Highway Administration

Supplemental Environmental Impact Statement: Lafourche Parish, LA

AGENCY: Federal Highway Administration, Department of Transportation.

ACTION: Notice of intent.

SUMMARY: The Federal Highway Administration (FHWA) is issuing this notice to advise the public that a Supplemental Environmental Impact Statement (SEIS) will be prepared for a proposed transportation project in Lafourche Parish, Louisiana.

FOR FURTHER INFORMATION CONTACT: FHWA Joshua Cunningham, Project Delivery Team Leader, FHWA, 5304 Flanders Drive, Suite A, Baton Rouge, Louisiana 70808. Project information can be found at the LaDOTD Web site: www.dotd.state.la.us.

The FHWA, in cooperation with the Louisiana Department of Transportation and Development (LaDOTD), will prepare a Supplemental Environmental Impact Statement (SEIS) to the 2002 LA 1 Final EIS (FEIS) and 2003 Record of Decision (ROD), and the subsequent ROD revisions issued in 2004, 2009, and 2011 due to various design refinements. FHWA is preparing an SEIS because changes to the FEIS Selected Alternative's design, including construction of an at-grade toll facility and roadway approaches beyond the FEIS project limits, will result in local access modifications and right-of-way impacts.

Funding limitations require phased construction of the Selected Alternative, which generally runs parallel and to the west of existing LA 1. Phase 1, fully constructed in 2011, included a two-lane bridge from Port Fouchon (south limit) to Leeville (north limit), a distance of approximately 11 miles.

Phase 2, which has not been constructed, includes the continuation of the 2-lane bridge for 8.3 miles, connecting Leeville (south limit) to Golden Meadow (north limit). This SEIS will evaluate refinements to the design of the FEIS Selected Alternative at its north limit, as the elevated portion of LA 1 is extended and ties into existing, at-grade LA 3235 in Golden Meadow. This extension allows for the construction of an at-grade, southbound toll facility at the LA 3235 tie-in. The study area for the SEIS will be limited to the extended section of the FEIS Selected Alternative, a distance slightly less than 1 mile, and will not include any other portions of LA 1 previously approved as part of the FEIS.

Existing LA 3235 is a four-lane roadway, with two lanes in each direction. The LA 1 bridge from Leeville to Golden Meadow will be constructed as a two-lane structure, with one lane in each direction, except for within the SEIS study area. Within this study area, the two southbound lanes of LA 3235 will merge into one southbound lane on the LA 1 bridge. A toll gantry will be located approximately half a mile from the LA 1 bridge. It will include one electronic toll lane and one cash lane. On the northbound side, one northbound bridge lane will join one northbound lane connecting existing LA 1 to LA 3235. These two lanes will come together to tie into the existing two northbound lanes of LA 3235. Tolls will be collected in the southbound direction of travel only.

Letters describing the proposed project and soliciting comments will be sent to appropriate Federal, State, and local agencies, and to private organizations and the public who have previously expressed or are known to have interest in this project. Several public meetings will be held throughout the term of the project. The first of these meetings, a public scoping meeting, will be conducted to provide the public information about the project and an opportunity to assist in formulating and revising the scope of the study. The public scoping meetings will be scheduled in the future and will be posted to the LaDOTD Web site: www.dotd.state.la.us. A public hearing will also be held. Public notice will be given of the time and place of the meetings and hearing.

To ensure that the full range of issues related to this proposed project are addressed and all significant issues identified, comments and suggestions are invited from all interested parties. Comments or questions concerning this proposed action and the SEIS should be directed to the FHWA at the address provided above.

(Catalog of Federal Domestic Assistance Program Number 20.205, Highway Research, Planning, and Construction. The regulations implementing Executive Order 12372 regarding intergovernmental consultation on Federal programs and activities apply to this program.)

Issued on: February 23, 2017.
Charles “Wes“ Bollinger,
Division Administrator, FHWA, Louisiana.

[FR Doc. 2017-05140 Filed 3-14-17; 8:45 am]

BILLING CODE 4910-22-P